CONSUMER PRODUCT SAFETY COMMISSION

Sunshine Act Meetings

TIME AND DATE: Wednesday, March 7, 2012, 10 a.m.-11 a.m.

PLACE: Hearing Room 420, Bethesda Towers, 4330 East West Highway, Bethesda, Maryland.

STATUS: Commission Meeting—Open to the Public.

Matters To Be Considered: Decisional Matter: Fiscal Year 2012 Operating Plan.

A live webcast of the Meeting can be viewed at www.cpsc.gov/webcast.

TIME AND DATE: Wednesday, March 7, 2012; 11 a.m.—12 p.m.

PLACE: Hearing Room 420, Bethesda Towers, 4330 East West Highway, Bethesda, Maryland.

STATUS: Closed to the Public.

Matter To Be Considered: Compliance Status Report: The Commission staff will brief the Commission on the status of compliance matters.

For a recorded message containing the latest agenda information, call (301) 504-7948.

CONTACT PERSON FOR MORE INFORMATION: Todd A. Stevenson, Office of the Secretary, U.S. Consumer Product Safety Commission, 4330 East West Highway, Bethesda, MD 20814, (301) 504-7923.

Dated: February 28, 2012.
Todd A. Stevenson,
Secretary.

[FR Doc. 2012-5137 Filed 2-28-12; 2:00 pm]

BILLING CODE 6355-01-P